DEPARTMENT OF HEALTH AND HUMAN SERVICES

Substance Abuse and Mental Health Services Administration

Center for Substance Abuse Treatment; Notice of Meeting

Pursuant to Public Law 92-463, notice is hereby given that the Substance Abuse and Mental Health Services Administration (SAMHSA) Center for Substance Abuse Treatment (CSAT) National Advisory Council will meet on August 23, 2007 from 1 p.m. to 3 p.m. via teleconference.

The meeting will include review, discussion, and evaluation of grant applications. Therefore, the meeting will be closed to the public as determined by the Administrator, SAMHSA, in accordance with Title 5 U.S.C. 552b(c)(6) and 5 U.S.C. App. 2, Section 10(d).

Substantive program information, a summary of the meeting and a roster of Council members may be obtained as soon as possible after the meeting, either by accessing the SAMHSA Committee Web site at www.nac.samhsa.gov, or by contacting the CSAT National Advisory Council Executive Secretary, Ms. Cynthia Graham (see contact information below).

Committee Name: SAMHSA Center for Substance Abuse Treatment National; Advisory Council.

Date/Time/Type: August 23, 2007, from 1 p.m. to 3 p.m.; Closed.

Place: SAMHSA Building, 1 Choke Cherry Road, VTC Room, L-1057, Rockville, Maryland 20857.

Contact: Cynthia Graham, M.S., Executive Secretary, SAMHSA CSAT National Advisory Council, 1 Choke Cherry Road, Room 5-1035, Rockville, Maryland 20857, Telephone: (240) 276-1692, Fax: (240) 276-16890, E-mail: cynthia.graham@samhsa.hhs.gov.

Dated: July 31, 2007.
Toian Vaughn,
Committee Management Officer, Substance Abuse and Mental Health, Services Administration.

[FR Doc. E7-15217 Filed 8-3-07; 8:45 am]

BILLING CODE 4162-20-P